SUSQUEHANNA RIVER BASIN COMMISSION

Grandfathering (GF) Registration Notice

AGENCY: Susquehanna River Basin Commission.

ACTION: Notice.

This notice lists Grandfathering Registration for projects, described below, pursuant to 18 CFR 806, subpart E by the Susquehanna River Basin Commission during the period set forth in DATES.

DATES: January 1-31, 2019.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists GF Registration for projects, described below, pursuant to 18 CFR 806, subpart E for the time period specified above:

Grandfathering Registration Under 18 CFR 806, Subpart E

1. Range End Golf Club, GF Certificate No. GF-201901011, Carroll Township, York County, Pa.; Irrigation Pond; Issue Date: January 17, 2019.

2. Village of Newark Valley, GF Certificate No. GF-201901012, Village of Newark Valley, Tioga County, NY; Well 3; Issue Date: January 17, 2019.

3. Stewartstown Borough Authority, GF Certificate No.GF-201901013, Stewartstown Borough, York County, Pa.; Well 4; Issue Date: January 17, 2019.

4. Pennsylvania American Water Company—Berwick District, GF Certificate No. GF-201901014, Berwick Borough, Columbia County, Pa.; Well 1, Well 2, and Well 3; Issue Date: January 18, 2019.

5. West Shore Country Club, GF Certificate No. GF-201901015, East Pennsboro Township, Cumberland County, Pa.; Conodoguinet Creek and the Irrigation Pond; Issue Date: January 18, 2019.

6. New York State Parks, Recreation and Historic Preservation—Chenango Valley State Park Golf Course, GF Certificate No. GF-201901016, Town of Fenton, Broome County, NY; consumptive use; Issue Date: January 18, 2019.

Authority: Pub. L. 91-575, 84 Stat. 1509 et seq., 18 CFR parts 806, 807, and 808.

Dated: February 8, 2019.
Jason E. Oyler,
Acting Secretary to the Commission.

[FR Doc. 2019-02220 Filed 2-12-19; 8:45 am]

BILLING CODE 7040-01-P